DEPARTMENT OF AGRICULTURE

Rural Business—Cooperative Service

Notice of Funding Availability (NOFA) Inviting Applications for the Rural Microentrepreneur Assistance Program

AGENCY: Rural Business—Cooperative Service, USDA.

ACTION: Notice.

SUMMARY: The Notice announces the availability of $45.1 million in program level to support rural mircoentrepreneurship in rural America and solicits applications for funds available under the Rural Microentrepreneur Assistance Program to provide direct loans, technical assistance grants, and technical assistance-only grants to microdevelopment organizations to support the development and ongoing success of rural microentrepreneurs and microenterprises. The Agency will make awards on a quarterly basis. In the event, as expected in the first quarter, all program funds are not awarded in a quarter, the remaining funds will be carried over to the subsequent quarter.

DATES: Applications for participating in this Program will be accepted on an on-going basis, but will be awarded on a quarterly basis. For Fiscal Year 2010, applications must be received by July 16, 2010 for consideration for award under Fiscal Year 2010 and September 30, 2010 for consideration for award for funds available in Fiscal Year 2010, but not obligated.

ADDRESSES: Applications and forms may be obtained from any Rural Development State Office. Applicants must submit an original complete application to the USDA Rural Development National Office and provide a copy of the application package to the USDA Rural Development State Office in the state where the applicant's project is located. The National Office address and a list of the USDA Rural Development State Offices addresses and telephone numbers are listed below.

Note: Telephone numbers listed are not toll-free.

National Office

Rural Microenterprise Assistance Program, Business Programs, Specialty Programs Lending Division, USDA Rural Development, Room 6868, South Agricultural Building, Stop 3225, 1400 Independence Avenue, SW., Washington, DC 20250-3225, (202) 720-1400.

Alabama

USDA Rural Development State Office, Sterling Centre, Suite 601, 4121 Carmichael Road, Montgomery, AL 36106-3683, (334) 279-3400/TDD (334) 279-3495.

Alaska

USDA Rural Development State Office, 800 West Evergreen, Suite 201, Palmer, AK 99645-6539, (907) 761-7705/TDD (907) 761-8905.

Arizona

USDA Rural Development State Office, 230 N. 1st Ave., Suite 206, Phoenix, AZ 85003, (602) 280-8701/TDD (602) 280-8705.

Arkansas

USDA Rural Development State Office, 700 West Capitol Avenue, Room 3416, Little Rock, AR 72201-3225, (501) 301-3200/TDD (501) 301-3279.

California

USDA Rural Development State Office, 430 G Street, # 4169, Davis, CA 95616-4169, (530) 792-5800/TDD (530) 792-5848.

Colorado

USDA Rural Development State Office, 655 Parfet Street, Room E-100, Lakewood, CO 80215, (720) 544-2903/TDD (720) 544-2976.

Delaware-Maryland

USDA Rural Development State Office, 1221 College Park Drive, Suite 200, Dover, DE 19904, (302) 857-3580/TDD (302) 857-3585.

Florida/Virgin Islands

USDA Rural Development State Office, 4440 NW 25th Place, P.O. Box 147010, Gainesville, FL 32614-7010, (352) 338-3400/TDD (352) 338-3499.

Georgia

USDA Rural Development State Office, Stephens Federal Building, 355 E. Hancock Avenue, Athens, GA 30601-2768, (706) 546-2162/TDD (706) 546-2034.

Hawaii

USDA Rural Development State Office, Federal Building, Room 311, 154 Waianuenue Avenue, Hilo, HI 96720, (808) 933-8380/TDD (808) 933-8321.

Idaho

USDA Rural Development State Office, 9173 West Barnes Dr., Suite A1, Boise, ID 83709, (208) 378-5600/TDD (208) 378-5644.

Illinois

USDA Rural Development State Office, 2118 West Park Court, Suite A, Champaign, IL 61821, (217) 403-6200/TDD (217) 403-6240.

Indiana

USDA Rural Development State Office, 5975 Lakeside Boulevard, Indianapolis, IN 46278, (317) 290-3100/TDD (317) 290-3343.

Iowa

USDA Rural Development State Office, Federal Building, Room 873, 210 Walnut Street, Des Moines, IA 50309, (515) 284-4663/TDD (515) 284-4858.

Kansas

USDA Rural Development State Office, 1303 S.W. First American Place, Suite 100, Topeka, KS 66604-4040, (785) 271-2700/TDD (785) 271-2767.

Kentucky

USDA Rural Development State Office, 771 Corporate Drive, Suite 200, Lexington, KY 40503, (859) 224-7300/TDD (859) 224-7422.

Louisiana

USDA Rural Development State Office, 3727 Government Street, Alexandria, LA 71302, (318) 473-7921/TDD (318) 473-7655.

Maine

USDA Rural Development State Office, 967 Illinois Avenue, Suite 4, P.O. Box 405, Bangor, ME 04402-0405, (207) 990-9160/TDD (207) 942-7331.

Massachusetts/Rhode Island/Connecticut

USDA Rural Development State Office, 451 West Street, Suite 2, Amherst, MA 01002-2999, (413) 253-4300/TDD (413) 253-4590.

Michigan

USDA Rural Development State Office, 3001 Coolidge Road, Suite 200, East Lansing, MI 48823, (517) 324-5190/TDD (517) 324-5169.

Minnesota

USDA Rural Development State Office, 375 Jackson Street, Suite 410, St. Paul, MN 55101-1853, (651) 602-7800/TDD (651) 602-3799.

Mississippi

USDA Rural Development State Office, Federal Building, Suite 831, 100 W. Capitol Street, Jackson, MS 39269, (601) 965-4316/TDD (601) 965-5850.

Missouri

USDA Rural Development State Office, 601 Business Loop 70 West, Parkade Center, Suite 235, Columbia, MO 65203, (573) 876-0976/TDD (573) 876-9480.

Montana

USDA Rural Development State Office, 900 Technology Boulevard, Suite B, P.O. Box 850, Bozeman, MT 59771, (406) 585-2580/TDD (406) 585-2562.

Nebraska

USDA Rural Development State Office, Federal Building, Room 152, 100 Centennial Mall North, Lincoln, NE 68508, (402) 437-5551/TDD (402) 437-5093.

Nevada

USDA Rural Development State Office, 1390 South Curry Street, Carson City, NV 89703-5146, (775) 887-1222/TDD (775) 885-0633.

New Jersey

USDA Rural Development State Office, 8000 Midlantic Drive, 5th Floor North, Suite 500, Mt. Laurel, NJ 08054, (856) 787-7700/TDD (856) 787-7784.

New Mexico

USDA Rural Development State Office, 6200 Jefferson Street, NE, Room 255, Albuquerque, NM 87109, (505) 761-4950/TDD (505) 761-4938.

New York

USDA Rural Development State Office, The Galleries of Syracuse, 441 South Salina Street, Suite 357, Syracuse, NY 13202-2541, (315) 477-6400/TDD (315) 477-6447.

North Carolina

USDA Rural Development State Office, 4405 Bland Road, Suite 260, Raleigh, NC 27609, (919) 873-2000/TDD (919) 873-2003.

North Dakota

USDA Rural Development State Office, Federal Building, Room 208, 220 East Rosser, P.O. Box 1737, Bismarck, ND 58502-1737, (701) 530-2037/TDD (701) 530-2113.

Ohio

USDA Rural Development State Office, Federal Building, Room 507, 200 North High Street, Columbus, OH 43215-2418, (614) 255-2400/TDD (614) 255-2554.

Oklahoma

USDA Rural Development State Office, 100 USDA, Suite 108, Stillwater, OK 74074-2654, (405) 742-1000/TDD (405) 742-1007.

Oregon

USDA Rural Development State Office, 1201 NE Lloyd Blvd., Suite 801, Portland, OR 97232, (503) 414-3300/TDD (503) 414-3387.

Pennsylvania

USDA Rural Development State Office, One Credit Union Place, Suite 330, Harrisburg, PA 17110-2996, (717) 237-2299/TDD (717) 237-2261.

Puerto Rico

USDA Rural Development State Office, IBM Building, Suite 601, 654 Munos Rivera Avenue, San Juan, PR 00918-6106, (787) 766-5095/TDD (787) 766-5332.

South Carolina

USDA Rural Development State Office, Strom Thurmond Federal Building, 1835 Assembly Street, Room 1007, Columbia, SC 29201, (803) 765-5163/TDD (803) 765-5697.

South Dakota

USDA Rural Development State Office, Federal Building, Room 210, 200 Fourth Street, SW., Huron, SD 57350, (605) 352-1100/TDD (605) 352-1147.

Tennessee

USDA Rural Development State Office, 3322 West End Avenue, Suite 300, Nashville, TN 37203-1084, (615) 783-1300.

Texas

USDA Rural Development State Office, Federal Building, Suite 102, 101 South Main, Temple, TX 76501, (254) 742-9700/TDD (254) 742-9712.

Utah

USDA Rural Development State Office, Wallace F. Bennett Federal Building, 125 South State Street, Room 4311, Salt Lake City, UT 84138, (801) 524-4320/TDD (801) 524-3309.

Vermont/New Hampshire

USDA Rural Development State Office, City Center, 3rd Floor, 89 Main Street, Montpelier, VT 05602, (802) 828-6000/TDD (802) 223-6365.

Virginia

USDA Rural Development State Office, 1606 Santa Rosa Road, Suite 238, Richmond, VA 23229-5014, (804) 287-1550/TDD (804) 287-1753.

Washington

USDA Rural Development State Office, 1835 Black Lake Boulevard SW., Suite B, Olympia, WA 98512-5715, (360) 704-7740/TDD (360) 704-7760.

West Virginia

USDA Rural Development State Office, 75 High Street, Room 320, Morgantown, WV 26505-7500, (304) 284-4860/TDD (304) 284-4836.

Wisconsin

USDA Rural Development State Office, 4949 Kirschling Court, Stevens Point, WI 54481, (715) 345-7600/TDD (715) 345-7614.

Wyoming

USDA Rural Development State Office, 100 East B, Federal Building, Room 1005, P.O. Box 11005, Casper, WY 82602-5006, (307) 233-6700/TDD (307) 233-6733.

FOR FURTHER INFORMATION CONTACT: For further information on this Notice, please contact the USDA Rural Development State Office for your respective State, as provided in the Addresses section of this Notice.

SUPPLEMENTARY INFORMATION:

Paperwork Reduction Act

In accordance with the Paperwork Reduction Act, the paperwork burden associated with this Notice has been approved by the Office of Management and Budget (OMB) under OMB Control Number 0570-0062.

Overview

Federal Agency Name: Rural Business—Cooperative Service (an agency of the United States Department of Agriculture in the Rural Development mission area).

Solicitation Opportunity Title: Rural Microentrepreneur Assistance Program.

Announcement Type: Initial announcement.

Catalog of Federal Domestic Assistance Number. The CFDA number for this Notice is 10.870.

DATES: Completed applications must be received in the USDA Rural Development National Office no later than the quarterly deadlines of July 16 and September 30, 2010 to be considered for funds available in FY 2010 and, assuming availability of funds, by December 31, 2010, for the first quarter in FY 2011.

Availability of Notice and Rule. This Notice and the interim rule for the Rural Microentrepreneur Assistance Program (RMAP) are available on the USDA Rural Development Web site at http://www.rurdev.usda.gov/BCP-LoanAndGrants.html and at http://www.rurdev.usda.gov/rbs/busp/bprogs.htm.

I. Funding Opportunity Description

A. Purpose of the Program. The purpose of RMAP is to support the development and ongoing success of rural microentrepreneurs and microenterprises (businesses generally with ten employees or fewer and in need of financing in the amount of $50,000 or less as defined in 7 CFR 4280.302).

Assistance provided to rural areas under this program may include the provision of loans and grants to rural Microenterprise Development Organizations (MDOs) for the provision of microloans to rural microenterprises and microentrepreneurs; provision of business-based training and technical assistance to rural microborrowers and potential microborrowers; and other such activities as deemed appropriate by the Secretary to ensure the development and ongoing success of rural microenterprises.

B. Statutory Authority. The RMAP is authorized by Section 379E of the Consolidated Farm and Rural Development Act (7 USC 2008s). Regulations are contained in 7 CFR part 4280, subpart D.

C. Definition of Terms. The definitions applicable to this Notice are published at 7 CFR 4280.302.

II. Award Information

A. Type of Award: Loan and/or Grant.

B. Fiscal Year Funds: FY 2010.

C. Funding Availability: The total amount of available program level in Fiscal Year 2010 is $45.1 million. Of this total, $36.2 million will be initially available for loans, $7.6 million will be initially available for Microlender technical assistance grants, and $1.3 million will be initially available for Technical assistance-only grants. Exact funding is dependent on the quality of applicants for each funding type.

Any funds not awarded under this notice will be carried over into Fiscal Year 2011. Applications received after July 16, 2010, will be reviewed and evaluated for funding beginning October 1st. Applications for the first quarter are due September 30th. In the event some of the program funds allocated for the first quarter of Fiscal Year 2011 are not awarded, the remaining funds will be carried over to the second quarter.

D. Approximate Number of Awards: 82.

E. Awards: The minimum loan amount an MDO may borrow under this program is $50,000. The maximum loan any MDO may borrow in any given year is $500,000.

The maximum amount of a technical assistance-only grant under this program will not exceed an estimated $130,000.

Microlender Technical Assistance grants will be limited to an amount equal to not more than 25 percent of the total outstanding balance of microloans made under this program and active by the microlender as of the date the grant is awarded for the first $400,000 plus an additional 5 percent of the loan amount owed by the microborrowers to the lender under this program over $400,000 up to and including $2.5 million. Funds cannot be used to pay off the loans. During the first year of a microlender's operation under this program, the percentage will be determined based on the amount of the loan to the microlender, but will be disbursed on a quarterly basis based on the amount of microloans made. Any grant dollars obligated, but not spent, from the initial grant, will be subtracted from the subsequent year grant to ensure that obligations cover only microloans made and active.

F. Anticipated Award Dates:

* August 31, 2010 for applications received by July 16, 2010.

* November 15, 2010 for applications received by September 30, 2010.

* February 15, 2011 for applications received by December 31, 2010.

III. Eligibility Information

A. Eligible Applicants. To be eligible for this program, the applicant must meet the eligibility requirements in 7 CFR 4280.310.

B. Cost share requirements. The Federal share of the eligible project cost of a microborrower's project funded under this Notice shall not exceed 75 percent. The cost share requirement shall be met by the microlender in accordance with the requirements specified in 7 CFR 4280.311(d).

C. Matching fund requirements. The MDO is required to provide a match of not less than 15 percent of the total amount of the grant in the form of matching funds, indirect costs, or in-kind goods or services.

D. Other Eligibility Requirements. Applications will only be accepted from eligible MDOs. Eligible MDOs must score a minimum of 70 points out of 100 points to be considered to receive an award. Awards will be based on ranking with the highest ranking applications being funded first, subject to available funding.

E. Completeness Eligibility. All applications must be submitted as a complete application, in one package. Applications will not be considered for funding if they do not provide sufficient information to determine eligibility or are unbound, falling apart, or otherwise not suitable for evaluation. Such applications will be returned.

IV. Fiscal Year 2010 Application and Submission Information

A. Application Submittal. Applications may be submitted in either paper or electronic format. If applications are submitted in paper format, they must be bound in a 3-ring binder and must be organized in the same order set forth in 7 CFR 4280.315. To ensure timely delivery, applicants are strongly encouraged to submit their applications using an overnight, express, or parcel delivery service.

Applicants are encouraged to submit grant only applications through the Grants.gov Web site at: http://www.grants.gov. Users of Grants.gov will be able to download a copy of the application package, complete it off line, and then upload and submit the application via the Grants.gov Web site. USDA Rural Development strongly encourages applicants not to wait until the application deadline date to begin the application process through Grants.gov. Applications may not be submitted by electronic mail.

When applicants enter the Grants.gov Web site, they will find information about submitting a grant application electronically through the site as well as the hours of operation. Applicants may submit all documents electronically through the Web site, including all information required for a complete application and all necessary assurances and certifications under 7 CFR 4280.315. After electronically submitting an application through the Web site, the applicant will receive an automatic acknowledgement from Grants.gov that contains a Grants.gov tracking number. USDA Rural Development may request that the applicant provide original signatures on forms at a later date.

All applicants, whether filing applications through www.Grants.gov or by paper, must have a Dun and Bradstreet Data Universal Numbering System (DUNS) number which can be obtained at no cost via a toll-free request line at 1-866-705-5711.

Please note that applicants can locate the downloadable application package for this program by the Catalog of Federal Domestic Assistance Number, which is 10.870, or FedGrants Funding Opportunity Number, which can be found at http://www.Grants.gov.

B. Content and Form of Submission. An application must contain all of the required elements outlined in 7 CFR 4280.315. Each application must address the applicable scoring criteria presented in 7 CFR 4280.316 for the type of funding being requested.

C. Submission Dates and Times.

The original complete application must be received by the USDA Rural Development National Office no later than 4:30 p.m. local time by the application deadline dates listed above, regardless of the postmark date.

Applications received at the USDA Rural Development National Office, unless withdrawn by the applicant, will be retained by the Agency for consideration in subsequent reviews through a total of four quarterly reviews. Applications unsuccessful after four quarters will not be considered further for an award.

V. Application Review Information

Awards under this Notice will be made on a competitive basis each quarter. Each application received in the USDA Rural Development National Office will be reviewed, scored, and ranked to determine if it is consistent with the program requirements. Applications will be scored based on the applicable scoring criteria contained in 7 CFR 4280.316. Failure to address any of the applicable scoring criteria will result in a zero-point score for that section. Applications must receive at least 70 points to be considered for funding in the quarter in which it is scored. Figure 1 illustrates the scoring associated with 7 CFR 4280.316.

BILLING CODE 3410-XY-P

VI. Award Administration Information

Successful applicants will receive notification for funding from the USDA Rural Development State Office. Applicants must comply with all applicable statutes and regulations before the award will be approved. Unsuccessful applications will receive notification by mail.

VII. Agency Contacts

For general questions about this Notice, please contact your USDA Rural Development State Office as provided in the Addresses section of this Notice.

NONDISCRIMINATION STATEMENT: The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Adjudication and Compliance, 1400 Independence Avenue, SW., Washington, DC 20250-9410 or call (800) 795-3272 (voice) or (202) 720-6382 (TDD). USDA is an equal opportunity provider, employer, and lender.

Dated: May 28, 2010.
Judith A. Canales,
Administrator, Rural Development, Business and Cooperative Programs, [OMB1]Section.

[FR Doc. 2010-13380 Filed 6-2-10; 8:45 am]

BILLING CODE 3410-XY-C